DEPARTMENT OF TRANSPORTATION

Office of the Secretary

Motor Vehicles; Alternative Fuel Vehicle (AFV) Report

AGENCY: Office of the Secretary, DOT.

ACTION: Notice of Availability—Fleet (AFV) Report.

SUMMARY: In accordance with the Energy Policy Act of 1992 (EPAct) (42 U.S.C. 13211-13219) as amended by the Energy Conservation Reauthorization Act of 1998 (Pub. L. 105-388), and Executive Order (EO) 13149, “Greening the Government Through Federal Fleet and Transportation Efficiency,” the Department of Transportation's FY 2004 annual alternative fuel vehicle report is available on the Department of Transportation Web site: http://isddc.dot.gov/OLPFiles/OST/011928.pdf. The report is also available at: http://isddc.dot.gov, follow the search instructions to search for “DOT FY04 AFV.”

FOR FURTHER INFORMATION CONTACT: George Kuehn, Office of Transportation and Facilities, 400 7th Street SW., Washington, DC 20590; telephone (202) 366-1614.

Dated: April 21, 2005.
Rita Martin,
Director, Administrative Management Policy Division.

[FR Doc. 05-8374 Filed 4-26-05; 8:45 am]

BILLING CODE 4910-62-P